DEPARTMENT OF DEFENSE

Office of the Secretary

[DoD-2006-OS-0096]

Higher Initial Maximum Uniform Allowance Rate; Uniform Allowances

AGENCY: Department of Defense; Office of the Deputy Under Secretary of Defense (Civilian Personnel Policy).

ACTION: Notice; request for comments.

SUMMARY: The Department of Defense (DoD or “the Department”), is proposing to establish a higher initial maximum uniform allowance to procure and issue uniform items for uniformed police personnel. This proposal is pursuant to the authority granted to DoD by § 591.104 of title 5, Code of Federal Regulations (CFR), which states that an agency may establish one or more initial maximum uniform allowance rates greater than the Governmentwide maximum uniform allowance rate established under 5 CFR 591.103.

DATES: The Department must receive comments on or before December 11, 2006.

ADDRESSES: You may submit comments, identified by docket number and or RIN number and title, by any of the following methods:

• Federal eRulemaking Portal: http://www.regulations.gov. Follow the instructions for submitting comments.

• Mail: Federal Docket Management System Office, 1160 Defense Pentagon, Washington, DC 20301-1160.

Instructions: All submissions received must include the agency name and docket number or regulatory Information Number (RIN) for this Federal Register document. The general policy for comments and other submissions from members of the public is to make these submissions available for public viewing on the Internet at http://regulations.gov as they are received without change, including any personal identifiers or contact information.

FOR FURTHER INFORMATION CONTACT: Mr. George T. Bell, 703-696-1268

SUPPLEMENTARY INFORMATION: DoD is proposing to implement a higher initial maximum uniform allowance to procure and issue uniform items for uniformed police personnel. This is being proposed in accordance with 5 CFR 591.104, which states that an agency may establish one or more initial maximum uniform allowance rates greater than the Governmentwide maximum uniform allowance rate established under 5 CFR 591.103. The current $400.00 limit has become inadequate to maintain the uniform standards and professional image expected of Federal police officers. The uniform items for uniformed police personnel include the following items or similar items such as: Goretex gloves; 6-pocket pants; 4-pocket long sleeve shirts; cold weather duty jackets; light weight duty jackets; sweaters; all season trousers; summer duty shirts; winter duty shirts; raincoats; sheriff's type hats; ties; shoes; leather boots; heavy duty coats; shoulder patches, and cloth badges. The average total uniform cost for the listed items is $1,800.00. Based on these current costs, the Department is proposing to increase the initial maximum uniform allowance for uniformed police personnel to $1,800.00 The number of uniformed police personnel affected by this challenge in the Department would be approximately 5,000 employees. The proposed effective date of this higher initial maximum uniform allowance rate is December 1, 2006.

Dated: October 2, 2006.
L.M. Bynum,
Alternate OSD Federal Register Liaison Officer, Department of Defense.

[FR Doc. 06-8547 Filed 10-06-06; 8:45 am]

BILLING CODE 5001-06-M